DEPARTMENT OF THE INTERIOR

Fish and Wildlife Service

[Docket No. FWS-HQ-IA-2023-0252; FXIA16710900000-234-FF09A30000]

Endangered Species; Issuance of Permits

AGENCY: Fish and Wildlife Service, Interior.

ACTION: Notice of issuance of permits.

SUMMARY: We, the U.S. Fish and Wildlife Service (Service), have issued the following permits to conduct certain activities with endangered species. We issue these permits under the Endangered Species Act (ESA).

ADDRESSES: Information about the applications for the permits listed in this notice is available online at https://www.regulations.gov. See SUPPLEMENTARY INFORMATION for details.

FOR FURTHER INFORMATION CONTACT: Brenda Tapia, by phone at 703-358-2185 or via email at DMAFR@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (Service), have issued permits to conduct certain activities with endangered and threatened species in response to permit applications that we received under the authority of section 10(a)(1)(A) of the Endangered Species Act of 1973 (16 U.S.C. 1531 et seq.).

After considering the information submitted with each permit application and the public comments received, we issued the requested permits subject to certain conditions set forth in each permit. For each application for an endangered species, we found that (1) the application was filed in good faith, (2) the granted permit would not operate to the disadvantage of the endangered species, and (3) the granted permit would be consistent with the purposes and policy set forth in section 2 of the ESA.

Availability of Documents

The permittees' original permit application materials, along with public comments we received during public comment periods for the applications, are available for review. To locate the application materials and received comments, go to https://www.regulations.gov and search for the appropriate permit number (e.g., 12345C) provided in the following table:

Endangered Species
Permit No. | Applicant | Permit issuance date
82001D | Cherokee Exotic Adventures | April 21, 2022.
83956D | Utica Zoological Society | August 23, 2022.
85065D | Russell Corbett-Detig | December 7, 2022.
PER0038856 | Continental Ranch Hunts/Kothman Ranch Co | December 7, 2022.
PER0038858 | Continental Ranch Hunts/Kothman Ranch Co | December 7, 2022.
PER0037184 | NNNN Operations, LLC | December 8, 2022.
PER0037185 | NNNN Operations, LLC | December 8, 2022.
PER0044495 | University of California Davis Wildlife Health Center | December 21, 2022.
PER0036502 | Safari Game Search Foundation | January 30, 2023.
60450D | Loyd D. Keith, Jr | March 27, 2023.
PER0326840 | Browder Lee Graves | April 4, 2023.
PER0054702 | USGS Western Ecological Research Center | April 12, 2023.
PER1642140 | Memphis Zoo, dba Memphis Zoological Society | April 18, 2023.
PER0884554 | Zoological Society of San Diego, DBA San Diego Zoo Wildlife Alliance | May 22, 2023.
PER0092994 | International Center for the Preservation of Wild Animals dba The Wilds | May 23, 2023.
PER1992989 | Smithsonian National Zoo and Conservation Biology Institute | June 7, 2023.
PER1200907 | Fossil Rim Wildlife Center, Inc | June 7, 2023.
PER2209279 | Colter Lee Combs | June 8, 2023.
PER2209312 | Jamie Combs-Hunter | June 13, 2023.
PER2209131 | James Lee Combs | June 13, 2023.
PER2208121 | Ryan James Combs | June 13, 2023.
PER0036455 | Safari Wild Animal Park | June 20, 2023.
PER0613031 | Brent C. Oxley | June 20, 2023.
PER1322675 | Scott Swasey | June 29, 2023.
PER0017418 | Reid Park Zoological Society | July 20, 2023.
33093D | Amy C. Evans | August 1, 2023.
PER2484762 | University of Georgia, College of Veterinary Medicine | August 1, 2023.
PER2499014 | Smithsonian National Zoo and Conservation Biology Institute | August 1, 2023.
93301C | Richard Prager | August 3, 2023.
PER2525954 | Oregon Zoo | August 7, 2023.
PER3108901 | Cincinnati Zoo & Botanical Garden | September 21, 2023.
PER3941571 | Alexandria Zoological Park | September 26, 2023.
PER0054384 | Smithsonian National Zoo and Conservation Biology Institute | September 28, 2023.
PER0054387 | Smithsonian National Zoo and Conservation Biology Institute | September 28, 2023.
PER4095187 | Smithsonian National Zoo and Conservation Biology Institute | October 2, 2023.
PER3130634 | Fresno Chaffee Zoo Corporation | October 10, 2023.
PER3214118 | Milwaukee County Zoological | November 1, 2023.
PER3560967 | Smithsonian Institution National Museum of Natural History | November 8, 2023.
PER4459661 | Sammy Shaw | December 12, 2023.
PER4459612 | Teddy Dickerson | December 12, 2023.

Authority

We issue this notice under the authority of the Endangered Species Act, as amended (16 U.S.C. 1531 et seq.), and its implementing regulations.

Brenda Tapia,
Supervisory Program Analyst/Data Administrator, Branch of Permits, Division of Management Authority.

[FR Doc. 2024-00351 Filed 1-9-24; 8:45 am]

BILLING CODE 4333-15-P